DEPARTMENT OF TRANSPORTATION

Federal Railroad Administration

[Docket Number FRA-2016-0126]

Notice of Petition for Extension of Waiver of Compliance

AGENCY: Federal Railroad Administration (FRA), Department of Transportation (DOT).

ACTION: Notice.

SUMMARY: This document provides the public notice that by letter dated December 31, 2024, Capital Metropolitan Transportation Authority (CMTY) petitioned FRA for an extension of relief from certain regulations concerning Stadler G4 vehicles.

DATES: FRA must receive comments on the petition by May 5, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Harold Weisinger, Railroad Safety Specialist, FRA Motive Power & Equipment Division, telephone: 202-493-0036, email: harold.weisinger@dot.gov.

SUPPLEMENTARY INFORMATION: Under part 211 of title 49 Code of Federal Regulations (CFR), this document provides the public notice that by letter dated December 31, 2024, CMTY petitioned FRA for an extension ¹ of a waiver of compliance from certain provisions of the Federal railroad safety regulations contained at 49 CFR parts 229 (Railroad Locomotive Safety Standards), 231 (Railroad Safety Appliance Standards), and 238 (Passenger Equipment Safety Standards). The relevant Docket Number is FRA-2016-0126.

¹ See FRA's August 16, 2017, decision letter, available at https://www.regulations.gov/document/FRA-2016-0126-0009.

Specifically, CMTY seeks an extension of relief from the following regulations for four Stadler GTW fourth-generation vehicles (201, 202, 203, and 204):

• § 229.47(b)—Emergency brake valve

• § 229.71—Clearance above top of rail

• § 229.135(b)(4)(xviii) and (xix)—Event recorders

• § 231.14(a)(2), (b)-(d), (f), and (g)—Passenger-train cars without end platforms

• § 238.305(c)(5)—Interior calendar day mechanical inspection of passenger cars

• § 238.309, Periodic brake equipment maintenance.

In its petition, CMTY states that the 49 CFR part 238 Alternative Vehicle Technology final rule “will demonstrate to the FRA's Safety Board an equivalent level of safety and compliance to support the renewal” of the relief.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by May 5, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-03626 Filed 3-5-25; 8:45 am]

BILLING CODE 4910-06-P